DEPARTMENT OF COMMERCE

National Oceanic and Atmospheric Administration

Proposed Information Collection; Comment Request; Southeast Region Permit Family of Forms

AGENCY: National Marine Fisheries Service (NMFS), National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act (PRA) of 1995.

DATES: Written comments must be submitted on or before February 21, 2017.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Adam Bailey, NMFS Southeast Regional Office (SERO), 263 13th Avenue South, St. Petersburg, FL 33701, phone: 727-824-5305, or email: adam.bailey@noaa.gov.

SUPPLEMENTARY INFORMATION:

I. Abstract

This request is for a renewal with revisions to the existing reporting requirements approved under the Office of Management and Budget's (OMB) Control Number 0648-0205, Southeast Region Permit Family of Forms. The SERO Permits Office administers Federal fishing permits in the United States (U.S.) exclusive economic zone (EEZ) of the Caribbean Sea, Gulf of Mexico (Gulf), and South Atlantic under the authority of the Magnuson-Stevens Fishery Conservation and Management Act (Magnuson-Stevens Act), 16 U.S.C. 1801. The SERO Permits Office also proposes to revise parts of the current collection-of-information approved under OMB Control Number 0648-0205.

The National Marine Fisheries Service (NMFS) Southeast Region manages the U.S. Federal fisheries in the Caribbean, Gulf, and South Atlantic under the fishery management plans (FMPs) for each region. The regional fishery management councils prepared the FMPs pursuant to the Magnuson-Stevens Act. The regulations implementing the FMPs, including those that have reporting requirements, are at 50 CFR part 622.

The recordkeeping and reporting requirements at 50 CFR part 622 form the basis for this collection of information. The NMFS Southeast Region requests information from fishery participants. This information, upon receipt, results in an increasingly more efficient and accurate database for management and monitoring of the Federal fisheries in the Caribbean, Gulf, and South Atlantic.

The SERO Permits Office proposes to revise the collection-of-information approved under OMB Control Number 0648-0205. NMFS proposes to revise the Federal permit applications for Vessels Fishing in the EEZ (Vessel EEZ), Harvest of Aquacultured Live Rock in the EEZ, Vessels Fishing for Wreckfish in the South Atlantic States (Wreckfish), and the Annual Dealer permit.

The purpose of revising certain Southeast Region permit application forms is to better comply with National Standard 4 (NS4) of the Magnuson-Stevens Act, the Regulatory Flexibility Act (RFA) and the Small Business Administration's regulations implementing the RFA, Executive Order 12898, and the “fairness and equitable distribution” provisions of the Magnuson-Stevens Act, including NS4 and section 303(b)(6).

The SERO Permits Office also proposes to split the single application form, Federal Permit Application for the Harvest of Aquacultured Live Rock, into two application forms, Federal Permit Application for New Permit for the Harvest of Aquacultured Live Rock (Aquacultured Live Rock New Permit) and Federal Permit Application to Renew Permit for the Harvest of Aquacultured Live Rock (Aquacultured Live Rock Permit Renewal).

The Aquacultured Live Rock New Permit includes the collection of data previously collected via a separate form, Aquaculture Site Evaluation Report, among other revisions. The proposed revisions to establish the Aquacultured Live Rock New Permit application do not affect the time burden for applicants for new sites or new permit holders, but should clarify the application process for most applicants of new sites. The application form for the Aquacultured Live Rock Permit Renewal does not include the Aquaculture Site Evaluation Report; however, the Aquacultured Live Rock Permit Renewal form does include other clarifying revisions. NMFS does not anticipate these revisions to both forms will materially change the time burden to the applicants.

The proposed revisions to the specified application forms are administrative and generally divide existing data fields into smaller parts to gather information that is more specific. NMFS intends the revisions to make the requested information clearer and easier to understand, and therefore, applications may require less time to complete in some cases. Additionally, NMFS removed some data fields that were collecting less meaningful data. NMFS estimates that the proposed revisions would not change the annual number of respondents or responses, or annual costs to affected permit applicants from estimates in the currently approved collection. Across the application forms, NMFS estimates these revisions would increase the overall time burden.

In addition to the proposed revisions above, NMFS also increases its estimated time burden for the Vessel Permit Transfers and Notarizations form and the Annual Landings Report for Gulf of Mexico Shrimp form to more accurately account for the time required to complete these forms.

II. Method of Collection

Respondents complete applications on paper forms, and then can either mail or bring applications to the SERO Permits Office. Online application renewals are currently available only for some of the permits included on the Federal Permit Application for Vessels Fishing in the Exclusive Economic Zone. The SERO Permits Office can mail applications and instructions or they can be downloaded from the SERO Permits Office Web site at sero.nmfs.noaa.gov/permits.

III. Data

OMB Control Number: 0648-0205.

Form Number(s): None.

Type of Review: Regular submission (revision and extension of a current information collection).

Affected Public: Business or other for-profit organizations.

Estimated Number of Respondents: 13,909.

Estimated Time per Response:

• Dealer Permit Application, 30 minutes;

• Vessel EEZ Permit Application, including Golden Tilefish Endorsement and Smoothhound Shark Permit, 40 minutes;

• Wreckfish Permit Application, 40 minutes;

• Vessel Operator Card Application for Dolphin/Wahoo or Rock Shrimp, 21 minutes;

• Fishing in Colombian Treaty Waters Vessel Permit Application, 30 minutes;

• Golden Crab Permittee Zone Transit Notification, 12 minutes;

• Notifications of Authorization for Retrieval of Lost or Stolen Traps (golden crab, reef fish, snapper-grouper, spiny lobster), 13 minutes;

• Vessel Permit Transfers and Notarizations, 10 minutes;

• Annual Landings Report for Gulf of Mexico Shrimp, 20 minutes;

• International Maritime Organization (IMO) Number Registration, 30 minutes;

• Aquacultured Live Rock Permitting and Reporting—New Permit—Deposit Harvest Report, 15 minutes; Notice of Intent to Harvest, 5 minutes; Site Evaluation Report, 20 minutes; Federal Permit Application, including Site Evaluation Report, 50 minutes; and

• Aquacultured Live Rock Permitting and Reporting—Renew Permit—Deposit Harvest Report, 15 minutes; Notice of Intent to Harvest, 5 minutes; Federal Permit Application, 30 minutes.

Estimated Total Annual Burden Hours: 7,940.

Estimated Total Annual Cost to Public: $483,828 in recordkeeping or reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 15, 2016.
Sarah Brabson,
NOAA PRA Clearance Officer.

[FR Doc. 2016-30594 Filed 12-19-16; 8:45 am]

BILLING CODE 3510-22-P